FEDERAL MARITIME COMMISSION

Notice of Request for Additional Information

The Commission gives notice that it has formally requested that the parties to the below listed agreement provide additional information pursuant to 46 U.S.C. 40304(d). This action prevents the agreement from becoming effective as originally scheduled. Interested parties may file comments within fifteen (15) days after publication of this notice in the Federal Register.

Agreement No.: 012230.

Title: P3 Network Vessel Sharing Agreement.

Parties: A.P. Moller-Maersk A/S trading under the name Maersk Line; CMA CGM S.A.; and MSC Mediterranean Shipping Company, S.A.

By Order of the Federal Maritime Commission.
Dated: December 6, 2013.
Rachel E. Dickon,
Assistant Secretary.

[FR Doc. 2013-29599 Filed 12-11-13; 8:45 am]

BILLING CODE 6730-01-P